DEPARTMENT OF TRANSPORTATION

National Highway Traffic Safety Administration

[Docket No. NHTSA-2008-0183; Notice 1]

Ford Motor Company, Receipt of Petition for Decision of Inconsequential Noncompliance

Ford Motor Company (Ford) has determined that certain complete model year 2007-2008 Ford Expedition and Lincoln Navigator multipurpose passenger vehicles (MPV) built with the Limousine Builders Package and certain complete 2008 model year Ford Crown Victoria Police Interceptor (CVPI) passenger cars built with two front bucket seats did not fully comply with paragraph S4.3(b) of 49 CFR 571.110, Federal Motor Vehicle Safety Standard (FMVSS) No. 110 Tire Selection and Rims for Motor Vehicles With a GVWR of 4,536 Kilograms (10,000 pounds) or Less. Ford has filed an appropriate report pursuant to 49 CFR Part 573, Defect and Noncompliance Responsibility and Reports.

Pursuant to 49 U.S.C. 30118(d) and 30120(h) (see implementing rule at 49 CFR part 556), Ford has petitioned for an exemption from the notification and remedy requirements of 49 U.S.C. Chapter 301 on the basis that this noncompliance is inconsequential to motor vehicle safety.

This notice of receipt of Ford's, petition is published under 49 U.S.C. 30118 and 30120 and does not represent any agency decision or other exercise of judgment concerning the merits of the petition.

Affected are approximately 233 model year 2007-2008 Ford Expedition and Lincoln Navigator MPVs with the Limousine Builders Package (built from September 6, 2006 through March 12, 2008 at Ford's Michigan Truck Plant) and approximately 34,682 model year 2008 Ford Crown Victoria Police Interceptor passenger cars equipped with two front bucket seats (built from June 27, 2007 through May 7, 2008 at Ford's St. Thomas Assembly Plant).

Paragraph S4.3 of FMVSS No. 110 requires in pertinent part:

S4.3 Placard. Each vehicle, except for a trailer or incomplete vehicle, shall show the information specified in S4.3 (a) through (g), and may show, at the manufacturer's option, the information specified in S4.3 (h) and (i), on a placard permanently affixed to the driver's side B-pillar. In each vehicle without a driver's side B-pillar and with two doors on the driver's side of the vehicle opening in opposite directions, the placard shall be affixed on the forward edge of the rear side door. If the above locations do not permit the affixing of a placard that is legible, visible and prominent, the placard shall be permanently affixed to the rear edge of the driver's side door. If this location does not permit the affixing of a placard that is legible, visible and prominent, the placard shall be affixed to the inward facing surface of the vehicle next to the driver's seating position. This information shall be in the English language and conform in color and format, not including the border surrounding the entire placard, as shown in the example set forth in Figure 1 in this standard. At the manufacturer's option, the information specified in S4.3 (c), (d), and, as appropriate, (h) and (i) may be shown, alternatively to being shown on the placard, on a tire inflation pressure label which must conform in color and format, not including the border surrounding the entire label, as shown in the example set forth in Figure 2 in this standard. The label shall be permanently affixed and proximate to the placard required by this paragraph. The information specified in S4.3 (e) shall be shown on both the vehicle placard and on the tire inflation pressure label (if such a label is affixed to provide the information specified in S4.3 (c), (d), and, as appropriate, (h) and (i)) may be shown in the format and color scheme set forth in Figures 1 and 2 * * *

(b) Designated seated capacity (expressed in terms of total number of occupants and number of occupants for each front and rear seat location) * * *

In its petition, Ford explained that the noncompliances with FMVSS No. 110 exist due to errors on the tire and loading information placards that it affixed to the vehicles. Ford described the noncompliances as incorrect listing of designated seating positions on the tire and loading information placard. Specifically:

1. Expedition and Navigator vehicles with the Limo Builders Package are built with only two front seats. No rear seats are installed. The tire information placard identifies the seating capacity as five total (two front; three rear) or seven total (two front; five rear), instead of two total (two front; zero rear).

2. CVPI passenger cars with two front bucket seats—the designated seating capacity was incorrectly identified as six total (three front; three rear) instead of five total (two front; three rear).

Ford also explained its belief that in each of these cases the number of seats and the number of safety belts installed in the vehicle will clearly indicate to the customers the actual seating capacity. Ford also declared its belief that NHTSA has reached a similar conclusion that the presence of seat belts will alert the operators to the number of seating positions in any row of seating. Ford specifically details its reasoning as follows:

In the case of the Expedition and Navigator vehicles built with the Limo Builders Package are equipped with only two front seats and two sets of safety belts when delivered to the Qualified Vehicle Modifier (QVM). When the QVM completes the modifications to the vehicles, the final number of seating positions will be specified on the label required to be affixed by the QVM.

In the case of the CVPI vehicles that are equipped with front bucket seats, the seats are separated by approximately 11 inches and Ford believes that nearly all of these vehicles will have a center console (typically used to mount police equipment such as lap top computers, communications radios, siren and lighting controls, etc.) installed by the aftermarket upfitters who perform police vehicle conversions.

Ford stated that in all cases, the weight capacity, the tire size designation and the cold tire inflation pressure data listed on the tire and loading information placard is correct for the vehicles on which they are installed. Ford additionally stated that because the weight capacity is accurate, it believes that there is no potential for vehicle overloading due to the incorrect value in the designated seating capacity.

Ford also stated that it was not aware of any field or owner complaints of misunderstanding of the actual number of seats in these vehicles.

Ford also has informed NHTSA that it has corrected the problem that caused these errors so that they will not be repeated in future production.

In summation, Ford states that it believes that the noncompliances are inconsequential to motor vehicle safety and that no corrective action is warranted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Anyone is able to search the electronic form of all comments received into any of our dockets by the name of the individual submitting the comment (or signing the comment, if submitted on behalf of an association, business, labor union, etc.). DOT's complete Privacy Act Statement is in the Federal Register published on April 11, 2000 (65 FR 19477-78).

You may view documents submitted to a docket at the address and times given above. You may also view the documents on the Internet at http://www.regulations.gov by following the online instructions for accessing the dockets available at that Web site.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: January 20, 2009.

Authority: 49 U.S.C. 30118, 30120: delegations of authority at CFR 1.50 and 501.8.

Issued on: December 15, 2008.
Claude H. Harris,
Director, Office of Vehicle Safety Compliance.

[FR Doc. E8-30132 Filed 12-18-08; 8:45 am]

BILLING CODE 4910-59-P